DEPARTMENT OF HOUSING AND URBAN DEVELOPMENT

[Docket No. FR-5997-N-35]

30-Day Notice of Proposed Information Collection: Understanding Rapid Re-Housing Study

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: August 7, 2017.

ADDRESSES: Interested persons are invited to submit comments regarding this proposal. Comments should refer to the proposal by name and/or OMB Control Number and should be sent to: HUD Desk Officer, Office of Management and Budget, New Executive Office Building, Washington, DC 20503; fax: 202-395-5806, Email: OIRA_Submission@omb.eop.gov.

FOR FURTHER INFORMATION CONTACT: Anna P. Guido, Reports Management Officer, QMAC, Department of Housing and Urban Development, 451 7th Street SW., Washington, DC 20410; email Anna P. Guido at Anna_P._Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on February 7, 2017 at 82 FR 9591.

A. Overview of Information Collection

Title of Information Collection: Understanding Rapid Re-Housing Study.

OMB Approval Number: 2528—New.

Type of Request: New.

Form Number: No Forms.

Description of the need for the information and proposed use: Rapid Re-Housing (RRH) is an increasingly popular approach for using the homeless assistance system to reduce and end homelessness in communities across the United States. Several studies have examined RRH program outcomes. HUD's Rapid Re-Housing for Homeless Families Demonstration Program report and the U.S. Department of Veterans Affairs' research brief Impact and Performance of the Supportive Services for Veteran Families (SSVF) Program: Results from the FY 2013 Program Year measured RRH outcomes, and RRH was one of the active interventions tested in the Family Options Study (FOS). Several local studies have also assessed RRH. Collectively, the research conducted to date has produced varied evidence of the outcomes for participants receiving this type of assistance.

The Understanding Rapid Re-Housing Study provides an opportunity to (1) synthesize existing research on RRH programs, (2) extend the analysis of data from the Family Options Study (2016), (3) provide a detailed examination of all rapid re-housing programs nationwide, and (4) conduct qualitative research with a small sample of families and individuals who receive RRH. The first two objectives will utilize existing literature and data that have already been collected. To examine the nation's RRH programs, we will rely on currently existing Annual Program Reports (APRs) from local Continuums of Care (CoCs) and administer a web-based survey to RRH programs. To accomplish the fourth objective, we will conduct in-depth interviews and ethnographic research with households. This notice announces HUD's intent to collect information through the following methods: Study investigators (from Abt Associates) will administer a program-level web-based survey, which will include two separate sets of questions—a short set of system-level questions for CoC program staff, and an in-depth set of questions for RRH program staff. The survey will be administered to all CoCs and RRH programs nationwide. To describe the program models in place, the use of progressive engagement, and strategies for RRH in tight rental markets, the study investigators will conduct in-depth telephone follow-up interviews with approximately 20 RRH programs. In addition, investigators will conduct one-time in-person in-depth interviews with a sample of six households in shelter who have been offered RRH but have not yet started to receive it, 16 households who are receiving RRH assistance, and six households that have already transitioned from RRH to permanent housing. Finally, to understand their experiences both during RRH and once RRH assistance ends, and investigators will conduct ethnographic research with 16 households. This will include in-person interviews, household observations, quarterly check-ins, and the completion of housing journals.

Respondents: Information collection for the program-level web survey will involve program staff from all CoCs (approximately 400) and all RRH programs nationwide (approximately 2,400 programs). Approximately 20 RRH programs will be involved in the in-depth follow-up interviews. Information collection for the qualitative research will affect approximately 28 households.

From the completed 28 interviews, study investigators will invite all 16 households receiving RRH to continue in the applied ethnographic component of the study (and we assume that 15 will complete the ethnographic research activities). Their one-time in-depth interviews will provide a baseline against which investigators will analyze data to be collected over the subsequent 15 months. Those data will include participant observation, housing journals, quarterly family updates, and two follow-up interviews.

Respondents (i.e., affected public): Continuum of Care Collaborative Applicants, rapid re-housing program directors, and participants of rapid re-housing programs.

Information collection | Number of respondents | Frequency of response | Responses per annum | Burden hour per response | Total burden hours | Hourly cost per response | Cost
Program Data Collection
Web-based Program Survey—CoCs | 400 | 1 | 400 | 0.33 | 133.30 | $34.07 | $4,541.53
Web-based Program Survey—RRH Programs | 2,400 | 1 | 2,400 | 0.50 | 1,200.00 | 22.69 | 27,228.00
RRH In-depth Program Interviews | 20 | 1 | 20 | 2.00 | 40.00 | 22.69 | 907.60
Participant Data Collection
Understanding RRH Study Participation Consent Form | 28 | 1 | 28 | 0.08 | 2.24 | 10.15 | 22.74
One-time RRH Program Participant Interviews | 28 | 1 | 28 | 2.30 | 64.40 | 10.15 | 653.66
Understanding RRH Study Ethnography Participant Consent Form | 16 | 1 | 16 | 0.08 | 1.28 | 10.15 | 12.99
Ethnographic Interviews and Housing Journals | 16 | 2 | 32 | 3.50 | 112.00 | 10.15 | 1,136.80
RRH Household Observations | 16 | 4 | 64 | 3.00 | 192.00 | 10.15 | 1,948.80
Quarterly RRH Household Updates | 16 | 5 | 80 | 0.17 | 13.60 | 10.15 | 138.04
Total |  |  | 3,068 |  | 1,758.80 |  | 36,590.16

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: June 21, 2017.
Anna P. Guido,
Department Reports Management Officer, Office of the Chief Information Officer.

[FR Doc. 2017-14220 Filed 7-5-17; 8:45 am]

BILLING CODE 4210-67-P